DEPARTMENT OF HOUSING AND URBAN DEVELOPMENT

[Docket No. FR-5125-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, Attn: DAIM-ZS, Rm 8536, 2511 Jefferson Davis Hwy., Arlington, VA 22202; (703) 601-2545; Air Force: Ms. Kathryn M. Halvorson, Director, Air Force Real Property Agency, 1700 North Moore St., Suite 2300, Arlington, VA 22209-2802; (703) 696-5502; COE: Ms. Tracy Beck, Army Corps of Engineers, Office of Counsel, CECC-R, 441 G Street, NW., Washington, DC 20314; (202) 761-0019; (These are not toll-free numbers).

Dated: May 24, 2007.
Mark R. Johnston,
Deputy Assistant Secretary for Special Needs.

Title V, Federal Surplus Property Program Federal Register Report for 06/01/2007 05/24/2007

Unsuitable Properties

Building

Florida

Bldgs. 05531, 70666

Cape Canaveral

Brevard FL 32925

Landholding Agency: Air Force

Property Number: 18200720001

Status: Unutilized

Reasons: Extensive deterioration, Secured Area, Floodway

Hawaii

Bldgs. 102, 103, 104, 105

Hickam Petro Products Storage Annex

Wheeler HI

Landholding Agency: Air Force

Property Number: 18200720002

Status: Unutilized

Reasons: Extensive deterioration

Bldgs. 106, 107, 108, 109

Hickam Petro Products Storage Annex

Wheeler HI

Landholding Agency: Air Force

Property Number: 18200720003

Status: Unutilized

Reasons: Extensive deterioration

Unsuitable Properties

Building

Hawaii

Bldg. 83111

Hickam Petro Products Storage Annex

Wheeler HI

Landholding Agency: Air Force

Property Number: 18200720004

Status: Unutilized

Reasons: Extensive deterioration

Kansas

2 Bldgs.

School Creek Boat Ramp

Junction City KS

Landholding Agency: COE

Property Number: 31200720001

Status: Excess

Reasons: Extensive deterioration

2 Bldgs.

School Creek A Loop

Junction City KS 66441

Landholding Agency: COE

Property Number: 31200720002

Status: Excess

Reasons: Extensive deterioration

Unsuitable Properties

Building

Massachusetts

Lee House

Knightville Dam Project

Huntington MA

Landholding Agency: COE

Property Number: 31200720003

Status: Unutilized

Reasons: Extensive deterioration

Former Environmental Lab

200 Coldbrook Road

Barre MA

Landholding Agency: COE

Property Number: 31200720004

Status: Unutilized

Reasons: Extensive deterioration

Missouri

Bldg. #55001

Cooper Creek

Warsaw MO 65355

Landholding Agency: COE

Property Number: 31200720005

Status: Excess

Reasons: Extensive deterioration

Unsuitable Properties

Building

New Jersey

Bldgs. 00350, 00352, 00354

Picatinny Arsenal

Morris NJ 07806

Landholding Agency: Army

Property Number: 21200720102

Status: Unutilized

Reasons: Secured Area, Within 2000 ft. of flammable or explosive material

Bldgs. 937, 1071D

Picatinny Arsenal

Morris NJ 07806

Landholding Agency: Army

Property Number: 21200720103

Status: Unutilized

Reasons: Within 2000 ft. of flammable or explosive material , Secured Area

Bldgs. 1361, 1372

Picatinny Arsenal

Morris NJ 07806

Landholding Agency: Army

Property Number: 21200720104

Status: Unutilized

Reasons: Within 2000 ft. of flammable or explosive material, Secured Area

Bldgs. 8339, 9014

Fort Dix

Ft. Dix NJ 08640

Landholding Agency: Army

Property Number: 21200720105

Status: Unutilized

Reasons: Extensive deterioration

Unsuitable Properties

Building

New Mexico

Bldg. 57009

Kirtland AFB

Bernalillo NM 87117

Landholding Agency: Air Force

Property Number: 18200720005

Status: Unutilized

Reasons: Secured Area, Extensive deterioration

New York

Bldgs. 21609, 22789

Fort Drum

Jefferson NY

Landholding Agency: Army

Property Number: 21200720106

Status: Unutilized

Reasons: Extensive deterioration

North Carolina

60 Vault Toilets

W. Kerr Scott Project

Wilkesboro NC 28697

Landholding Agency: COE

Property Number: 31200720006

Status: Unutilized

Reasons: Extensive deterioration

Unsuitable Properties

Building

North Dakota

Bldgs. 212, 218, 934

Grand Forks

Grand Forks ND 58205

Landholding Agency: Air Force

Property Number: 18200720006

Status: Unutilized

Reasons: Secured Area, Within 2000 ft. of flammable or explosive material

67 Duplexes, 3BR

Grand Forks AFB

Grand Forks ND 58205

Landholding Agency: Air Force

Property Number: 18200720007

Status: Unutilized

Reasons: Secured Area, Within 2000 ft. of flammable or explosive material

8 Bldgs.

Grand Forks AFB

Grand Forks ND 58205

Landholding Agency: Air Force

Property Number: 18200720008

Status: Unutilized

Directions: 1156, 1160, 1301, 1307, 1802, 1806, 1825, 1829

Reasons: Secured Area, Within 2000 ft. of flammable or explosive material

Unsuitable Properties

Building

North Dakota

Bldgs. 1158, 1159

Grand Forks AFB

Grand Forks ND 58205

Landholding Agency: Air Force

Property Number: 18200720009

Status: Unutilized

Reasons: Secured Area, Within 2000 ft. of flammable or explosive material

10 Duplexes, 4BR

Grand Forks AFB

Grand Forks ND 58205

Landholding Agency: Air Force

Property Number: 18200720010

Status: Unutilized

Reasons: Secured Area, Within 2000 ft. of flammable or explosive material

41 Duplexes, 3BR

Grand Forks AFB

Grand Forks ND 58205

Landholding Agency: Air Force

Property Number: 18200720011

Status: Unutilized

Reasons: Secured Area, Within 2000 ft. of flammable or explosive material

Bldg. 1188

Grand Forks AFB

Grand Forks ND 58205

Landholding Agency: Air Force

Property Number: 18200720012

Status: Unutilized

Reasons: Secured Area, Within 2000 ft. of flammable or explosive material

Unsuitable Properties

Building

North Dakota

6 Bldgs.

Grand Forks AFB

Grand Forks ND 58205

Landholding Agency: Air Force

Property Number: 18200720013

Status: Unutilized

Directions: 1190, 1300, 1800, 1801, 1807, 1841

Reasons: Within 2000 ft. of flammable or explosive material, Secured Area

13—6 Vehicle Garages

Grand Forks AFB

Grand Forks ND 58205

Landholding Agency: Air Force

Property Number: 18200720014

Status: Unutilized

Reasons: Within 2000 ft. of flammable or explosive material, Secured Area

Bldgs. 1202, 1212, 1216

Grand Forks AFB

Grand Forks ND 58205

Landholding Agency: Air Force

Property Number: 18200720015

Status: Unutilized

Reasons: Secured Area, Within 2000 ft. of flammable or explosive material

Unsuitable Properties

Building

North Dakota

7 Bldgs.

Grand Forks AFB

Grand Forks ND 58205

Landholding Agency: Air Force

Property Number: 18200720016

Status: Unutilized

Directions: 1204, 1206, 1210, 1213, 1214, 1215, 1217

Reasons: Within 2000 ft. of flammable or explosive material, Secured Area

Bldgs. 1211, 1218

Grand Forks AFB

Grand Forks ND 58205

Landholding Agency: Air Force

Property Number: 18200720017

Status: Unutilized

Reasons: Secured Area, Within 2000 ft. of flammable or explosive material

7 Bldgs.

Grand Forks AFB

Grand Forks ND 58205

Landholding Agency: Air Force

Property Number: 18200720018

Status: Unutilized

Directions: 1302, 1304, 1308, 1331, 1333, 1335, 1337

Reasons: Secured Area, Within 2000 ft. of flammable or explosive material

Unsuitable Properties

Building

North Dakota

Bldgs. 1303, 1306

Grand Forks AFB

Grand Forks ND 58205

Landholding Agency: Air Force

Property Number: 18200720019

Status: Unutilized

Reasons: Within 2000 ft. of flammable or explosive material, Secured Area

6 Bldgs.

Grand Forks AFB

Grand Forks ND 58205

Landholding Agency: Air Force

Property Number: 18200720020

Status: Unutilized

Directions: 1364, 1808, 1817, 1818, 1821, 1822

Reasons: Within 2000 ft. of flammable or explosive material, Secured Area

14—4 Plexes, 3BR

Grand Forks AFB

Grand Forks ND 58205

Landholding Agency: Air Force

Property Number: 18200720021

Status: Unutilized

Reasons: Within 2000 ft. of flammable or explosive material, Secured Area

Unsuitable Properties

Building

North Dakota

Bldgs. 1360, 1368, 1399

Grand Forks AFB

Grand Forks ND 58205

Landholding Agency: Air Force

Property Number: 18200720022

Status: Unutilized

Reasons: Within 2000 ft. of flammable or explosive material, Secured Area

Bldgs. 1612, 1741

Grand Forks AFB

Grand Forks ND 58205

Landholding Agency: Air Force

Property Number: 18200720023

Status: Unutilized

Reasons: Within 2000 ft. of flammable or explosive material, Secured Area

4 Bldgs.

Grand Forks AFB

Grand Forks ND 58205

Landholding Agency: Air Force

Property Number: 18200720024

Status: Unutilized

Directions: 1747, 1787, 1788, 1920

Reasons: Secured Area, Within 2000 ft. of flammable or explosive material

Unsuitable Properties

Building

North Dakota

Bldgs. 1804, 1827

Grand Forks AFB

Grand Forks ND 58205

Landholding Agency: Air Force

Property Number: 18200720025

Status: Unutilized

Reasons: Secured Area Within 2000 ft. of flammable or explosive material

Bldgs. 1812, 1814

Grand Forks AFB

Grand Forks ND 58205

Landholding Agency: Air Force

Property Number: 18200720026

Status: Unutilized

Reasons: Secured Area, Within 2000 ft. of flammable or explosive material

Bldgs. 1836, 1838, 1840

Grand Forks AFB

Grand Forks ND 58205

Landholding Agency: Air Force

Property Number: 18200720027

Status: Unutilized

Reasons: Within 2000 ft. of flammable or explosive material, Secured Area

Unsuitable Properties

Building

North Dakota

7 Bldgs.

Grand Forks AFB

Grand Forks ND 58205

Landholding Agency: Air Force

Property Number: 18200720028

Status: Unutilized

Directions: 1883, 1889, 1895, 1897, 1901, 1907, 1913

Reasons: Secured Area, Within 2000 ft. of flammable or explosive material

8 Duplexes, 2BR

Grand Forks AFB

Grand Forks ND 58205

Landholding Agency: Air Force

Property Number: 18200720029

Status: Unutilized

Reasons: Within 2000 ft. of flammable or explosive material, Secured Area

Oklahoma

Bldg.

Sizemore Landing

Gore OK 74435

Landholding Agency: COE

Property Number: 31200720007

Status: Unutilized

Reasons: Extensive deterioration

Unsuitable Properties

Building

Oklahoma

Bldg.

Taylor Ferry

Fort Gibson OK 74434

Landholding Agency: COE

Property Number: 31200720008

Status: Unutilized

Reasons: Extensive deterioration

Pennsylvania

Bldgs. 00302, 00630, 00846

Carlisle Barracks

Cumberland PA 17013

Landholding Agency: Army

Property Number: 21200720107

Status: Unutilized

Reasons: Extensive deterioration

Texas

Bldg. 13051

Fort Hood

Bell TX 76544

Landholding Agency: Army

Property Number: 21200720108

Status: Excess

Reasons: Extensive deterioration

Bldgs. 56226, 56228

Fort Hood

Bell TX 76544

Landholding Agency: Army

Property Number: 21200720109

Status: Excess

Reasons: Extensive deterioration

Unsuitable Properties

Building

Texas

Bldgs. 56520, 56521

Fort Hood

Bell TX 76544

Landholding Agency: Army

Property Number: 21200720110

Status: Excess

Reasons: Extensive deterioration

Bldg. 4483

Fort Hood

Bell TX 76544

Landholding Agency: Army

Property Number: 21200720111

Status: Excess

Reasons: Extensive deterioration

31 Bldgs.

Texoma Lake

Denison TX

Landholding Agency: COE

Property Number: 31200720009

Status: Unutilized

Reasons: Extensive deterioration

9 Bldgs.

Texoma Lake

Denison TX

Landholding Agency: COE

Property Number: 31200720010

Status: Unutilized

Reasons: Extensive deterioration

Unsuitable Properties

Building

Texas

Summary for UNSUITABLE PROPERTIES

Total number of Properties 304

[FR Doc. E7-10368 Filed 5-31-07; 8:45 am]

BILLING CODE 4210-67-P